DEPARTMENT OF HEALTH AND HUMAN SERVICES

National Institutes of Health

National Institute of Allergy and Infectious Diseases; Notice of Closed Meetings

Pursuant to section 10(d) of the Federal Advisory Committee Act, as amended (5 U.S.C. Appendix 2), notice is hereby given of the following meetings.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Institute of Allergy and Infectious Diseases Special Emphasis Panel, Microbicide Innovation.

Date: May 23-34, 2006.

Time: 8 a.m. to 7 p.m.

Agenda: To review and evaluate grant applications.

Place: Double Tree Rockville, 1750 Rockville Pike, Rockville, MD 20852.

Contact Person: Brenda Lange-Gustafson, PhD., Scientific Review Administrator, NIH/NIAID/DEA/DHHS, Scientific Review Program, Room 2217, 6700-B Rockledge Drive, MSC-7616, Bethesda, MD 20892-7616, 301-496-2550, bgustafson@niaid.nih.gov.

Name of Committee: National Institute of Allergy and Infectious Diseases Special Emphasis Panel, Development of Therapeutic Agents for Selected Viral Diseases.

Date: May 25-26, 2006.

Time: 8:30 a.m. to 6 p.m.

Agenda: To review and evaluate contract proposals.

Place: Double Tree Rockville, 1750 Rockville Pike, Rockville, MD 20852.

Contact Person: Kenneth E. Santora, PhD., Scientific Review Administrator, Scientific Review Program, Division of Extramural Activities/ NIH/NIAID/DHHS, 6700-B Rockledge Drive, MSC-7616, Bethesda, MD 20892-7616, 301-496-2550, ks216@nih.gov.

(Catalogue of Federal Domestic Assistance Program Nos. 93.855, Allergy, Immunology, and Transplantation Research; 93.856, Microbiology and Infectious Diseases Research, National Institutes of Health, HHS)

Dated: April 27, 2006.
David Clary,
Acting Director, Office of Federal Advisory Committee Policy.

[FR Doc. 06-4225 Filed 5-4-06; 8:45am]

BILLING CODE 4140-01-M